DEPARTMENT OF TRANSPORTATION

Federal Aviation Administration

[Docket No. FAA-2024-0661]

FAA Aircraft Noise Complaint and Inquiry System (Noise Portal); Correction

AGENCY: Federal Aviation Administration (FAA), U.S. Department of Transportation (DOT).

ACTION: Notice; correction.

SUMMARY: On January 20, 2026, FAA published a notice regarding the FAA Aircraft Noise Complaint and Inquiry System (Noise Portal) that omitted the docket number. This document corrects that omission.

FOR FURTHER INFORMATION CONTACT: Nitin Rao, Manager, National Engagement Strategy and Policy Division (ARA-200), Federal Aviation Administration, by email at: 9-APL-ANCIR-Comments@faa.gov; or by phone: 202-267-0965.

SUPPLEMENTARY INFORMATION:

Correction

In the Federal Register of January 20, 2026, in FR Doc. 2026-00943, on page 2416, in the second column, in the document heading, correct the docket number to read: [Docket No. FAA-2024-0661].

Nitin Rao,
Manager, National Engagement Strategy and Policy Division, Federal Aviation Administration.

[FR Doc. 2026-02231 Filed 2-3-26; 8:45 am]

BILLING CODE 4910-13-P